DEPARTMENT OF TRANSPORTATION

Federal Aviation Administration

14 CFR Part 39

[Docket No. 99-NM-202-AD; Amendment 39-12076; AD 2001-01-06]

RIN 2120-AA64

Airworthiness Directives; Airbus Model A300 B2 and A300 B4 (A300); Model A300 B4-600, A300 B4-600R, and A300 F4-600R (A300-600); and Model A310 Series Airplanes; Equipped With Dowty Ram Air Turbines

AGENCY: Federal Aviation Administration, DOT.

ACTION: Final rule.

SUMMARY: This amendment supersedes an existing airworthiness directive (AD), applicable to certain Airbus Industrie Model A300, A300-600, and A310 series airplanes; equipped with Dowty ram air turbines (RAT). That AD currently requires repetitive deployment tests of the RAT and checks of the adjustment of the locking rod. This amendment also requires modification of the RAT, which terminates the repetitive tests and checks. This amendment is prompted by issuance of mandatory continuing airworthiness information by a foreign civil airworthiness authority. The actions specified by this AD are intended to ensure the availability of the RAT in case of need.

DATES: Effective February 22, 2001.

The incorporation by reference of certain publications, as listed in the regulations, is approved by the Director of the Federal Register as of February 22, 2001.

The incorporation by reference of Airbus All Operator Telex 29-09, dated November 16, 1993, as listed in the regulations, was approved previously by the Director of the Federal Register as of March 2, 1994 (59 FR 7208, February 15, 1994).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 94-04-05, amendment 39-8823 (59 FR 7208, February 15, 1994), which is applicable to certain Airbus Industrie Model A300, A300-600, and A310 series airplanes, was published as a supplemental notice of proposed rulemaking (NPRM) in the Federal Register on August 23, 2000 (65 FR 51254). The action proposed to continue to require repetitive deployment tests of the ram air turbine (RAT) and checks of the adjustment of the locking rod. The action also proposed to require modification of the RAT, which would terminate the repetitive tests and checks, and to expand the applicability of the existing AD.

Airplane Model Designation Change

Since the issuance of the supplemental NPRM, the FAA has determined that it is necessary to revise the manner in which it specifies the model designation for Airbus Model A300 and A300-600 series airplanes to reflect the designations that appear on the type certificate data sheet (TCDS). This final rule has been revised accordingly.

Comments

Interested persons have been afforded an opportunity to participate in the making of this amendment. No comments were submitted in response to the supplemental NPRM or the FAA's determination of the cost to the public.

Conclusion

After careful review of the available data, the FAA has determined that air safety and the public interest require the adoption of the rule with the change previously described. The FAA has determined that this change will neither increase the economic burden on any operator nor increase the scope of the AD.

Cost Impact

There are approximately 126 airplanes of U.S. registry that will be affected by this AD.

The repetitive tests and checks that are required by AD 94-04-05, and retained in this AD, take approximately 2 work hours per airplane to accomplish, at an average labor rate of $60 per work hour. Based on these figures, the cost impact of this requirement on U.S. operators is estimated to be $15,120, or $120 per airplane, per test/check cycle.

The new modification that is required by this AD action will take approximately 6 work hours per airplane to accomplish, at an average labor rate of $60 per work hour. Required parts will cost approximately $3,995 per airplane. Based on these figures, the cost impact of the new requirements of this AD on U.S. operators is estimated to be $548,730, or $4,355 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8823 (59 FR 7208, February 15, 1994), and by adding a new airworthiness directive (AD), amendment 39-12076, to read as follows:

2001-01-06 Airbus Industrie: Amendment 39-12076. Docket 99-NM-202-AD. Supersedes AD 94-04-05, Amendment 39-8823.

Applicability: Model A300 B2 and A300 B4 (A300); Model A300 B4-600, A300 B4-600R, and A300 F4-600R (A300-600); and Model A310 series airplanes; certificated in any category; equipped with Dowty ram air turbines (RAT) having the following part numbers:

RAT 16C 100 VG

RAT 16C 101 VG

RAT 16C 102 VG

RAT 16C 103 VG

RAT 16C 105 VG

RAT 16C 109 VG

RAT 16C 110 VG

768336

768338

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To ensure the availability of the RAT in case of need, accomplish the following:

Restatement of Requirements of AD 94-04-05:

Repetitive Tests and Checks

(a) Within 60 days after March 2, 1994 (the effective date of AD 94-04-05, amendment 39-8823), or 500 hours time-in-service after March 2, 1994, whichever occurs first, perform a deployment test of the RAT and check the adjustment of the locking rod, in accordance with Airbus All Operator Telex (AOT) 29-09, dated November 16, 1993. Repeat the deployment test and adjustment check thereafter at intervals not to exceed 10 months.

(1) If no discrepancy is found, prior to further flight, apply grease to the RAT leg at the entry and exit positions of the locking rod spring housing, in accordance with the AOT.

(2) If any discrepancy is found, prior to further flight, correct it and apply grease to the RAT leg at the entry and exit positions of the locking rod spring housing, in accordance with the AOT.

New Requirements of This AD:

New Service Bulletin Revisions

(b) As of the effective date of this new AD, Airbus Service Bulletin A300-29-0101 (for Model A300 series airplanes), A310-29-2039 (for Model A310 series airplanes), or A300-29-6030 (for Model A300-600 series airplanes); all Revision 02, all dated June 28, 2000; as applicable; must be used for accomplishment of the actions required by paragraph (a) of this AD.

Modification

(c) Within 24 months after the effective date of this AD, modify the RAT by installing a grease nipple and a scraper seal assembly, replacing the locking rod spring with a stronger spring, and re-identifying the RAT with a new part number; in accordance with Airbus Service Bulletin A300-29-0106 (for Model A300 series airplanes), A310-29-2078 (for Model A310 series airplanes), or A300-29-6039 (for Model A300-600 series airplanes); all Revision 03, all dated June 28, 2000; as applicable. Accomplishment of the modification constitutes terminating action for the repetitive tests and checks required by paragraph (a) of this AD.

Note 2: The service bulletins refer to Sundstrand Service Bulletin ERPS26T-29-1 for modification instructions and new part numbers.

Note 3: Accomplishment of the actions specified in Airbus Service Bulletin A300-29-0106, A310-29-2078, or A300-29-6039; Revision 01; all dated September 8, 1997; or Revision 02, all dated January 26, 1999; as applicable; prior to the effective date of this AD, is acceptable for compliance with paragraph (c) of this AD.

Spares

(d) As of the effective date of this AD, no person shall install a RAT having the following part numbers on any airplane:

RAT 16C 100 VG

RAT 16C 101 VG

RAT 16C 102 VG

RAT 16C 103 VG

RAT 16C 105 VG

RAT 16C 109 VG

RAT 16C 110 VG

768336

768338

Alternative Methods of Compliance

(e)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 94-04-05, amendment 39-8823, are approved as alternative methods of compliance with paragraph (a) of this AD.

Note 4: Information concerning the existence of approved alternative methods of compliance with this AD, if any, may be obtained from the International Branch, ANM-116.

(f) Special flight permits may be issued in accordance with §§ 21.197 and 21.199 of the Federal Aviation Regulations (14 CFR 21.197 and 21.199) to operate the airplane to a location where the requirements of this AD can be accomplished.

Incorporation by Reference

(g) The actions shall be done in accordance with Airbus All Operator Telex 29-09, dated November 16, 1993; Airbus Service Bulletin A300-29-0101, Revision 02, dated June 28, 2000; Airbus Service Bulletin A310-29-2039, Revision 02, dated June 28, 2000; Airbus Service Bulletin A300-29-6030, Revision 02, dated June 28, 2000; Airbus Service Bulletin A300-29-0106, Revision 03, dated June 28, 2000; Airbus Service Bulletin A310-29-2078, Revision 03, dated June 28, 2000; and Airbus Service Bulletin A300-29-6039, Revision 03, dated June 28, 2000; as applicable.

(1) The incorporation by reference of Airbus Service Bulletin A300-29-0101, Revision 02, dated June 28, 2000; Airbus Service Bulletin A310-29-2039, Revision 02, dated June 28, 2000; Airbus Service Bulletin A300-29-6030, Revision 02, dated June 28, 2000; Airbus Service Bulletin A300-29-0106, Revision 03, dated June 28, 2000; Airbus Service Bulletin A310-29-2078, Revision 03, dated June 28, 2000; and Airbus Service Bulletin A300-29-6039, Revision 03, dated June 28, 2000; is approved by the Director of the Federal Register in accordance with 5 U.S.C. 552(a) and 1 CFR part 51.

(2) The incorporation by reference of Airbus All Operator Telex 29-09, dated November 16, 1993, was approved previously by the Director of the Federal Register as of March 2, 1994 (59 FR 7208, February 15, 1994).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directive 2000-259-315(B), dated June 28, 2000.

Effective Date

(h) This amendment becomes effective on February 22, 2001.

Issued in Renton, Washington, on January 8, 2001.
Donald L. Riggin,
Acting Manager, Transport Airplane Directorate, Aircraft Certification Service.

[FR Doc. 01-1076 Filed 1-17-01; 8:45 am]

BILLING CODE 4910-13-U